DEPARTMENT OF HEALTH AND HUMAN SERVICES

Administration for Children and Families

Expedited OMB Review: Low Income Household Water Assistance Program (LIHWAP) Plan (New Collection)

AGENCY: Office of Community Services, Administration for Children and Families, Department of Health and Human Services.

ACTION: Request for public comment.

SUMMARY: The Office of Community Services (OCS), Administration for Children and Families (ACF), U.S. Department of Health and Human Services (HHS), is requesting expedited review of an information collection request from the Office of Management and Budget (OMB) of the Low Income Household Water Assistance Program (LIHWAP) Plan. OCS solicited comments in the form of the LIHWAP survey (approved under OMB #0970-0531), which was available on the LIWHAP webpage from Monday, April 19-Tuesday April 27. These comments were due prior to submission of this information collection request and have been addressed in the submission package to OMB. OCS will use information from the LIHWAP Plan to identify recipients, methods and categories for grantee expenditures, as well as to assess the effectiveness of grantee planning and compliance to terms and conditions for the LIHWAP.

DATES: Comments should be submitted as soon as possible upon publication of this notice in the Federal Register.

ADDRESSES: Written comments and recommendations for the proposed information collection should be sent to www.reginfo.gov/public/do/PRAMain. Find this particular information collection by using the search function.

SUPPLEMENTARY INFORMATION: Description: ACF is requesting that OMB grant a 180-day approval for this request under procedures for expedited processing. If OCS determines to need to continue use of the LIHWAP plan beyond this initial 180-day approval period, a request for review under normal procedures will be submitted within 180 days of the approval for this request.

The LIHWAP is an emergency program intended to maintain continuity in water services for households with the lowest incomes that pay a high proportion of income for drinking water and waste water services. LIHWAP grantees have the flexibility to design certain policies and procedures related to the implementation of their LIHWAP programs in order to target the specific needs of their service population. The LIHWAP Plan will collect information related to each grantee's program design, including eligibility, benefit amounts, outreach, fiscal monitoring, etc. Grantees must report on program design and be approved prior to making payments on behalf of eligible households.

Respondents: LIHWAP Grantees, including States, Territories, and tribes that received a Low Income Household Energy Assistance Program (LIHEAP) grant award for Fiscal Year 2021.

Annual Burden Estimates
Instrument | Total number of respondents | Total number of responses per respondent | Average burden hours per response | Annual burden hours
LIHWAP Plan | 206 | 1 | 2 | 412

Estimated Total Annual Burden Hours: 412.

Grantees are required to submit one Plan that will cover their FY 2021 funding (including the American Rescue Plan funding) and covers the project period funded through September 30, 2023. Grantees will submit revised Plans if they make significant changes to their program during that project period. The two hour estimate includes potential revision(s) which are anticipated to be limited and quick in nature.

Authority: Sec. 533, Public Law 116-260.

Mary B. Jones,
ACF/OPRE Certifying Officer.

[FR Doc. 2021-11162 Filed 5-21-21; 4:15 pm]

BILLING CODE 4184-80-P